DEPARTMENT OF ENERGY

Energy Information Administration

Agency Information Collection Activities: Proposed Collection; Cancellation of Comment Request

AGENCY: Energy Information Administration (EIA), Department of Energy (DOE).

ACTION: Agency Information Collection Activities: Proposed Collection; Cancellation of Comment Request.

SUMMARY: On June 30, 2005, the EIA issued a Federal Register notice (70 FR 37798) soliciting comments on EIA's Voluntary Reporting of Greenhouse Gases Program (Form EIA-1605). Upon further consideration, EIA has decided to cancel the request for comments on the proposed revised form and instructions for the Program.

DATES: Cancellation of the comment request is effective as of August 31, 2005.

ADDRESSES: Questions or comments regarding this cancellation should be directed to Stephen E. Calopedis. Contact by e-mail (stephen.calopedis@eia.doe.gov) or fax (202-586-3045) is recommended. Questions or comments submitted by mail should be sent to Stephen E. Calopedis, U.S. Department of Energy, Energy Information Administration, EI-81, 1000 Independence Avenue, SW., Washington, DC 20585. Mr. Calopedis may also be contacted at 202-586-1156.

FOR FURTHER INFORMATION CONTACT: Requests for additional information should be directed to Mr. Calopedis at the address above.

SUPPLEMENTARY INFORMATION:

I. Background

II. Current Actions

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer-term domestic demands.

The EIA, as part of its effort to comply with the Paperwork Reduction Act of 1995 (Pub. L. 104-13, 44 U.S.C. Chapter 35), provides the general public and other Federal agencies with opportunities to comment on collections of information conducted by or in conjunction with the EIA. Any comments received help the EIA to prepare data requests that maximize the utility of the information collected, and to assess the impact of collection requirements on the public.

The Voluntary Reporting of Greenhouse Gases Program information collection is conducted pursuant to section 1605(b) of the Energy Policy Act of 1992 (Pub. L. 102-486, 42 U.S.C. 13385). The Program is currently operated under General Guidelines issued in October 1994 (59 FR 52769) by the DOE's Office of Policy and International Affairs. The Program's existing EIA-1605 and EIA-1605EZ forms were designed to collect voluntarily reported data on greenhouse gas emissions, reductions of these emissions, and increased carbon fixation, as well as information on commitments to reduce greenhouse gas emissions and sequester carbon in future years.

On June 30, 2005, the EIA issued a Federal Register notice (70 FR 37798) soliciting comments on a proposed revised Form EIA-1605 and instructions that were developed to conform to revised Interim Final General Guidelines and Draft Technical Guidelines proposed by the DOE's Office of Policy and International Affairs on March 24, 2005 (70 FR 15169). The comment period on the revised Interim Final General Guidelines and Draft Technical Guidelines closed on June 22, 2005, while the comment period on EIA's proposed revised Form EIA-1605 and instructions closed on August 29, 2005.

II. Current Actions

Upon further consideration, EIA has decided to cancel the request for comments on the proposed revised Form EIA-1605 and instructions. EIA will instead wait for the process of developing the general and technical guidelines to progress before soliciting comments on revised draft versions of the Program's form and instructions. EIA will, however, where appropriate, take into consideration comments received in response to its June 29, 2005 Federal Register notice in developing revised draft forms and instructions. After EIA drafts revised forms and instructions, EIA will issue a new Federal Register notice requesting public comments.

Statutory Authority: Section 3507(h)(1) of the Paperwork Reduction Act of 1995 (Pub. L. 104-13, 44 U.S.C. Chapter 35).

Issued in Washington, DC, August 25, 2005.
Jay H. Casselberry,
Agency Clearance Officer, Energy Information Administration.

[FR Doc. 05-17306 Filed 8-30-05; 8:45 am]

BILLING CODE 6450-01-P